ENVIRONMENTAL PROTECTION AGENCY

40 CFR Parts 52 and 81

[EPA-R09-OAR-2022-0326; FRL-9693-02-R9]

Partial Approval and Partial Disapproval of Air Quality State Implementation Plans; Arizona; 2015 Ozone Infrastructure Requirements

AGENCY: Environmental Protection Agency (EPA).

ACTION: Final rule.

SUMMARY: The Environmental Protection Agency (EPA) is approving in part and disapproving in part State implementation plan (SIP) revisions submitted by the State of Arizona pursuant to the Clean Air Act (CAA) for the implementation, maintenance, and enforcement of the 2015 ozone national ambient air quality standards (NAAQS or “standard”). In addition to our partial approval and partial disapproval of Arizona's SIP revision, the EPA is approving rules in the Arizona Revised Statutes and Pima County Code related to public availability of emissions reports into the Arizona SIP and reclassifying regions in Arizona with respect to emergency episode plans for ozone. Additionally, this final action includes an error correction to amend regulatory text related to the nonattainment designation of the Phoenix-Mesa, Arizona area for the 2015 ozone NAAQS.

DATES: This rule is effective October 4, 2024.

ADDRESSES: The EPA has established a docket for this action under Docket ID No. EPA-R09-OAR-2022-0326. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information. If you need assistance in a language other than English or if you are a person with disabilities who needs a reasonable accommodation at no cost to you, please contact the person identified in the FOR FURTHER INFORMATION CONTACT section.

FOR FURTHER INFORMATION CONTACT: Ben Leers, Planning and Analysis Branch (AIR-2), Air and Radiation Division, EPA Region IX, 75 Hawthorne Street, San Francisco, CA 94105, (415) 947-4279, or by email at leers.ben@epa.gov.

SUPPLEMENTARY INFORMATION: Throughout this document, “we,” “us,” and “our” refer to the EPA.

Table of Contents

I. Background

A. Statutory Requirements

B. State Submittals

C. EPA's Proposal

II. Public Comments and EPA Responses

III. Final Action

A. Partial Approvals and Partial Disapprovals

B. Incorporation of Rules Into Arizona's State Implementation Plan

C. Reclassification of Regions for Ozone Episode Plans

D. Error Correction to 40 CFR 81.303

IV. Incorporation by Reference

V. Statutory and Executive Order Reviews

I. Background

A. Statutory Requirements

Section 110(a)(1) of the CAA requires each State to submit to the EPA, within three years after the promulgation of a primary or secondary NAAQS or any revision thereof, a SIP revision that provides for the implementation, maintenance, and enforcement of such NAAQS.

Section 110(a)(2) of the CAA contains the infrastructure SIP requirements that generally relate to the information, authorities, compliance assurances, procedural requirements, and control measures that constitute the “infrastructure” of a State's air quality management program. These infrastructure SIP requirements (or “elements”) required by section 110(a)(2) are as follows:

• Section 110(a)(2)(A): Emission limits and other control measures.

• Section 110(a)(2)(B): Ambient air quality monitoring/data system.

• Section 110(a)(2)(C): Program for enforcement of control measures and regulation of new and modified stationary sources.

• Section 110(a)(2)(D)(i): Interstate pollution transport.

• Section 110(a)(2)(D)(ii): Interstate and international pollution abatement.

• Section 110(a)(2)(E): Adequate resources and authority, conflict of interest, and oversight of local and regional government agencies.

• Section 110(a)(2)(F): Stationary source monitoring and reporting.

• Section 110(a)(2)(G): Emergency episodes.

• Section 110(a)(2)(H): SIP revisions.

• Section 110(a)(2)(J): Consultation with government officials, public notification, prevention of significant deterioration (PSD), and visibility protection.

• Section 110(a)(2)(K): Air quality modeling and submittal of modeling data.

• Section 110(a)(2)(L): Permitting fees.

• Section 110(a)(2)(M): Consultation/participation by affected local entities.

Two elements identified in section 110(a)(2) are not governed by the three-year submittal deadline of section 110(a)(1) and are therefore not addressed in this action. These two elements are: (i) section 110(a)(2)(C), to the extent that it refers to permit programs required under part D (nonattainment new source review (NSR)), and (ii) section 110(a)(2)(I), pertaining to the nonattainment planning requirements of part D. As a result, this action does not address requirements for the nonattainment NSR portion of section 110(a)(2)(C) or the whole of section 110(a)(2)(I).

This action also does not address the interstate transport requirements under section 110(a)(2)(D)(i)(I), referred to as “prongs 1 and 2” of section 110(a)(2)(D)(i), or the requirements of section 110(a)(2)(D)(i)(II) pertaining to interference with visibility protection in other States, referred to as “prong 4” of section 110(a)(2)(D)(i). The EPA has proposed action on Arizona's SIP with respect to prongs 1, 2 and 4 of section 110(a)(2)(D)(i) for the 2015 ozone NAAQS in separate rulemakings.¹

¹ The EPA proposed to approve Arizona's SIP with respect to prongs 1 and 2 of section 110(a)(2)(D)(i) on June 24, 2022 (87 FR 37776). However, based on updated photochemical modeling, the EPA issued a supplemental proposal on February 16, 2024, proposing to approve Arizona's SIP with respect to prong 1 and to disapprove Arizona's SIP with respect to prong 2 (89 FR 12666). The EPA proposed to disapprove Arizona's SIP with respect to prong 4 of section 110(a)(2)(D)(i) on May 31, 2024 (89 FR 47398).

B. State Submittals

The Arizona Department of Environmental Quality (ADEQ) submitted two SIP revisions to address the infrastructure SIP requirements in CAA sections 110(a)(1) and 110(a)(2) for the 2015 ozone NAAQS. On September 24, 2018, ADEQ submitted the “Arizona State Implementation Plan Revision under Clean Air Act Sections 110(a)(1) and 110(a)(2) for the 2015 Ozone National Ambient Air Quality Standards.” ² On February 10, 2022, ADEQ submitted the “State Implementation Plan Revision: Clean Air Act Section 110(a)(2) for the 2012 Fine Particulate & 2015 Ozone NAAQS” (“2022 I-SIP supplement”).³ These submittals collectively address Arizona's obligation to satisfy infrastructure SIP requirements for the 2015 ozone NAAQS.⁴ We refer to them collectively herein as “Arizona's ozone I-SIP submittals.”

² Letter dated September 24, 2018, from Timothy S. Franquist, Director, Air Quality Division, ADEQ, to Michael Stoker, Regional Administrator, EPA Region IX, Subject: “Submittal of the Arizona State Implementation Plan Revision under Clean Air Act Sections 110(a)(1) and 110(a)(2) for the 2015 Ozone NAAQS.”

³ Letter dated February 10, 2022, from Daniel Czecholinski, Director, Air Quality Division, ADEQ, to Martha Guzman, Regional Administrator, EPA Region IX, Subject: “Submittal of the Arizona State Implementation Plan Revision under Clean Air Act Sections 110(a)(2) for the 2012 Fine Particulate and the 2015 Ozone NAAQS.”

⁴ The 2022 I-SIP supplement also addresses certain infrastructure SIP requirements for the 2012 fine particulate matter (PM2.5) NAAQS. We are not taking action on the portions of the 2022 I-SIP supplement addressing the 2012 PM2.5 NAAQS in this rulemaking.

C. EPA's Proposal

1. Approvals and Partial Approvals

We evaluated Arizona's ozone I-SIP submittals and the existing provisions of the Arizona SIP for compliance with the infrastructure SIP requirements of CAA section 110(a)(2) and the applicable regulations in 40 CFR part 51 (“Requirements for Preparation, Adoption, and Submittal of State Implementation Plans”). Based on the evaluation presented in the proposed rulemaking and in the accompanying technical support document (TSD), on December 5, 2022, we proposed to partially approve Arizona's ozone I-SIP submittals with respect to the 2015 ozone NAAQS for the requirements of the following sections of the CAA.⁵ Partial approvals are indicated by the parenthetical “(in part).”

⁵ 87 FR 74349 (December 5, 2022). The TSD supporting our proposed rulemaking is available at https://www.regulations.gov under Docket ID EPA-R09-OAR-2022-0326.

• Section 110(a)(2)(A)—Emission limits and other control measures.

• Section 110(a)(2)(B)—Ambient air quality monitoring/data system.

• Section 110(a)(2)(C)—Program for enforcement of control measures and regulation of new stationary sources (in part).

• Section 110(a)(2)(D)(i)(II)—Interference with maintenance, or “prong 3” (in part).

• Section 110(a)(2)(D)(ii)—Interstate pollution abatement, CAA section 126 (in part).

• Section 110(a)(2)(D)(ii)—International pollution abatement, CAA section 115.

• Section 110(a)(2)(E)—Adequate resources and authority, conflict of interest, and oversight of local governments and regional agencies.

• Section 110(a)(2)(F)—Stationary source monitoring and reporting.

• Section 110(a)(2)(G)—Emergency episodes.

• Section 110(a)(2)(H)—Consultation with government officials.

• Section 110(a)(2)(J)—Consultation with government officials, public notification, PSD, and visibility protection (in part).

• Section 110(a)(2)(K)—Air quality modeling and submission of modeling data.

• Section 110(a)(2)(L)—Permitting fees.

• Section 110(a)(2)(M)—Consultation/participation by affected local entities.

2. Partial Disapprovals

Based on the evaluation presented in the proposed rulemaking and accompanying TSD,⁶ the EPA proposed to partially disapprove Arizona's ozone I-SIP submittals with respect to the 2015 ozone NAAQS for the following CAA requirements:

⁶ 87 FR 74349.

• Section 110(a)(2)(C)—Program for enforcement of control measures and regulation of new stationary sources (in part).

• Section 110(a)(2)(D)(i)(II)—Interference with maintenance, or “prong 3” (in part).

• Section 110(a)(2)(D)(ii)—Interstate pollution abatement, CAA section 126 (in part).⁷

⁷ In our proposed rulemaking, we inadvertently omitted “(in part)” from the proposed partial disapproval of section 110(a)(2)(D)(ii) and are correcting it in this rulemaking. The analysis in the TSD and the proposed partial approval of section 110(a)(2)(D)(ii) support our intention to partially disapprove section 110(a)(2)(D)(ii).

• Section 110(a)(2)(J)—PSD and visibility protection (in part).

The EPA proposed to partially disapprove Arizona's ozone I-SIP submittals with respect to the 2015 ozone NAAQS for these CAA requirements due to deficiencies with PSD permitting of greenhouse gases in all permitting jurisdictions in Arizona and with PSD permitting of all NSR-regulated pollutants in Pima County.

3. Incorporation of Rules Into Arizona's State Implementation Plan

The 2022 I-SIP supplement includes the submittal of the following two rules for incorporation into the Arizona SIP to meet the requirements of CAA section 110(a)(2)(F) for the 2015 ozone NAAQS: Arizona Revised Statute (ARS) 49-432(C) and Pima County Code (PCC) 17.24.010. We reviewed ARS 49-432(C) and PCC 17.24.010 and found that they sufficiently provide for the public availability of stationary source emissions reports consistent with the requirements of CAA section 110(a)(2)(F). We therefore proposed to approve ARS 49-432(C) and PCC 17.24.010 into the Arizona SIP.

4. Reclassification of Regions for Ozone Episode Plans

Priority thresholds for classification of air quality control regions (AQCRs) are established at 40 CFR 51.150, and the classifications of AQCRs in Arizona are listed at 40 CFR 52.121. Under 40 CFR 51.151 and 51.152, regions classified Priority I, IA, or II are required to have SIP-approved emergency episode contingency plans, while those classified Priority III are not required to have plans. Under 40 CFR 51.153, based upon the most recent three years of complete air quality data at the time of proposal (i.e., 2019-2021), the EPA proposed to reclassify the Central Arizona Intrastate AQCR from Priority III to Priority I for ozone, to retain the classification of the Maricopa Intrastate AQCR as Priority I for ozone, and to reclassify the Pima Intrastate AQCR from Priority I to Priority III for ozone.⁸

⁸ 87 FR 74349.

II. Public Comments and EPA Responses

The EPA's proposed action provided a 30-day public comment period that ended on January 4, 2023. During this period, the EPA received one anonymous comment. The full text of the comment is available in the docket for this rulemaking. The EPA reviewed the comment and determined that it is not germane to our proposed action. Therefore, we do not provide a specific response to the comment in this document.

III. Final Action

A. Partial Approvals and Partial Disapprovals

Under CAA section 110(a), we are taking final action to partially approve and partially disapprove Arizona's ozone I-SIP submittals for the 2015 ozone NAAQS. Specifically, we are approving the submittal for the requirements of the following CAA sections, including partial approval for elements where noted:

• Section 110(a)(2)(A)—Emission limits and other control measures.

• Section 110(a)(2)(B)—Ambient air quality monitoring/data system.

• Section 110(a)(2)(C)—Program for enforcement of control measures and regulation of new stationary sources (in part).

• Section 110(a)(2)(D)(i)(II)—Interference with maintenance, or “prong 3” (in part).

• Section 110(a)(2)(D)(ii)—Interstate pollution abatement, CAA section 126 (in part).

• Section 110(a)(2)(D)(ii)—International pollution abatement, CAA section 115.

• Section 110(a)(2)(E)—Adequate resources and authority, conflict of interest, and oversight of local governments and regional agencies.

• Section 110(a)(2)(F)—Stationary source monitoring and reporting.

• Section 110(a)(2)(G)—Emergency episodes.

• Section 110(a)(2)(H)—Consultation with government officials.

• Section 110(a)(2)(J)—Consultation with government officials, public notification, PSD, and visibility protection (in part).

• Section 110(a)(2)(K)—Air quality modeling and submission of modeling data.

• Section 110(a)(2)(L)—Permitting fees.

• Section 110(a)(2)(M)—Consultation/participation by affected local entities.

We are taking final action to partially disapprove Arizona's ozone I-SIP submittals with respect to the 2015 ozone NAAQS for the following Clean Air Act requirements:

• Section 110(a)(2)(C)—Program for enforcement of control measures and regulation of new stationary sources (in part).

• Section 110(a)(2)(D)(i)(II)—Interference with maintenance, or “prong 3” (in part).

• Section 110(a)(2)(D)(ii)—Interstate pollution abatement, CAA section 126 (in part).

• Section 110(a)(2)(J)—PSD and visibility protection (in part).

Although the Arizona SIP remains deficient with respect to PSD permitting for certain pollutants in certain areas of Arizona as described, these deficiencies are adequately addressed in both areas by existing federal implementation plans. These partial disapprovals of Arizona's SIP do not create any new consequences for Arizona, the relevant county agencies, or the EPA, as Arizona and the county agencies already implement the EPA's federal PSD program at 40 CFR 52.21, pursuant to delegation agreements, for all regulated NSR pollutants. They also do not create any new offset or highway sanction; such sanctions are not triggered by disapprovals of infrastructure SIPs.

B. Incorporation of Rules Into Arizona's State Implementation Plan

For the reasons described in our proposed rulemaking, we found that ARS 49-432(C) and PCC 17.24.010 sufficiently provide for the public availability of stationary source emissions reports consistent with the requirements of CAA section 110(a)(2)(F). We are therefore taking final action to approve ARS 49-432(C) and PCC 17.24.010 into the Arizona SIP.⁹

⁹ PCC 17.24.010 replaces Rule 631 in the 1979-1993 Rule Codification of the Pima County Code, which was previously approved into the Arizona SIP. Thus, PCC 17.24.010 will replace Rule 631 under 40 CFR 52.120, Identification of Plan.

C. Reclassification of Regions for Ozone Episode Plans

For the reasons described in our proposed rulemaking, we are taking final action to reclassify the Central Arizona Intrastate AQCR from Priority III to Priority I for ozone. We are also taking final action to reclassify the Pima Intrastate AQCR from Priority I to Priority III for ozone. We are retaining the classification of the Maricopa Intrastate AQCR as Priority I for ozone.

Plans for areas classified as Priority I, IA, or II regions for a specific pollutant are required to include an emergency contingency plan meeting the requirements of 40 CFR 51.151 and 51.152 for that pollutant. The Central Arizona Intrastate AQCR includes Gila and Pinal counties. Emergency episode procedures in Gila County are governed by Arizona Administrative Code R18-2-220. Emergency episode procedures in Pinal County are governed by Pinal County Air Quality Control District Code of Regulations Chapter 2, Article 7. The emergency episode provisions in each of these regulations comply with the requirements of 40 CFR 51.151 and 51.152 pertaining to Priority I areas. Therefore, the reclassification of areas of Arizona from Priority III to Priority I for ozone will not generate new requirements for Arizona, and our reclassification of the Central Arizona Intrastate AQCR for ozone does not affect our approval of the Arizona SIP with respect to CAA section 110(a)(2)(G).

D. Error Correction to 40 CFR 81.303

On October 7, 2022, the EPA issued a final rule titled “Determinations of Attainment by the Attainment Date, Extensions of the Attainment Date, and Reclassification of Areas Classified as Marginal for the 2015 Ozone National Ambient Air Quality Standards” that included a final action to reclassify the Phoenix-Mesa nonattainment area in Arizona from “Marginal” to “Moderate” nonattainment for the 2015 ozone NAAQS.¹⁰ In the portion of 40 CFR 81.303 amended by the EPA's final rule, the EPA erroneously listed “Mariposa” County in place of “Maricopa” County among the partial counties composing the Phoenix-Mesa nonattainment area. The EPA is taking action to correct this error by replacing “Mariposa” with “Maricopa” in the Phoenix-Mesa nonattainment area description under the 2015 ozone NAAQS.

¹⁰ 87 FR 60897 (October 7, 2022).

In addition, we are taking action to correct a typographical error in the entry for the designated area of Maricopa County. The entry is currently contained in two cells, and we are condensing it into one cell.

The EPA has determined that this action falls under the “good cause” exemption in section 553(b)(4)(B) of the Administrative Procedure Act (APA) which, upon finding “good cause,” authorizes agencies to dispense with public participation where public notice and comment procedures are impracticable, unnecessary, or contrary to the public interest. Public notice and comment for this action are unnecessary because the underlying rule for which this correcting amendment has been prepared was already subject to a 30-day comment period, and this action merely corrects errors in the rule text. Further, this action is consistent with the purpose and rationale of the final rule, which is corrected herein. Because this action does not change the EPA's analyses or overall actions, no purpose would be served by additional public notice and comment. Consequently, additional public notice and comment are unnecessary.

IV. Incorporation by Reference

In this document, EPA is finalizing regulatory text that includes incorporation by reference. EPA is finalizing the removal of Pima County Air Pollution Control Regulation Rule 631, Confidentiality of Trade Secrets, Sales Data, and Proprietary Information, from the Arizona SIP, which is incorporated by reference in accordance with the requirements of 1 CFR part 51. EPA has made and will continue to make the State Implementation Plan generally available at the EPA Region 9 Office (please contact the person identified in the For Further Information Contact section of this preamble for more information).

V. Statutory and Executive Order Reviews

Additional information about these statutes and Executive orders can be found at https://www.epa.gov/laws-regulations/laws-and-executive-orders.

A. Executive Order 12866: Regulatory Planning and Review, Executive Order 13563: Improving Regulation and Regulatory Review, and Executive Order 14094: Modernizing Regulatory Review

This action is not a significant regulatory action and was therefore not submitted to the Office of Management and Budget (OMB) for review.

B. Paperwork Reduction Act (PRA)

This action does not impose an information collection burden under the PRA because this action does not impose additional requirements beyond those imposed by State law.

C. Regulatory Flexibility Act (RFA)

I certify that this action will not have a significant economic impact on a substantial number of small entities under the RFA. This action will not impose any requirements on small entities beyond those imposed by State law.

D. Unfunded Mandates Reform Act (UMRA)

This action does not contain any unfunded mandate as described in UMRA, 2 U.S.C. 1531-1538, and does not significantly or uniquely affect small governments. This action does not impose additional requirements beyond those imposed by State law. Accordingly, no additional costs to State, local, or tribal governments, or to the private sector, will result from this action.

E. Executive Order 13132: Federalism

This action does not have federalism implications. It will not have substantial direct effects on the States, on the relationship between the National Government and the States, or on the distribution of power and responsibilities among the various levels of government.

F. Executive Order 13175: Coordination With Indian Tribal Governments

This action does not have tribal implications, as specified in Executive Order 13175, because the SIP is not approved to apply on any Indian reservation land or in any other area where the EPA or an Indian tribe has demonstrated that a tribe has jurisdiction and will not impose substantial direct costs on tribal governments or preempt tribal law. Thus, Executive Order 13175 does not apply to this action.

G. Executive Order 13045: Protection of Children From Environmental Health Risks and Safety Risks

The EPA interprets Executive Order 13045 as applying only to those regulatory actions that concern environmental health or safety risks that the EPA has reason to believe may disproportionately affect children, per the definition of “covered regulatory action” in section 2-202 of the Executive Order. This action is not subject to Executive Order 13045 because it does not impose additional requirements beyond those imposed by State law.

H. Executive Order 13211: Actions That Significantly Affect Energy Supply, Distribution, or Use

This action is not subject to Executive Order 13211 because it is not a significant regulatory action under Executive Order 12866.

I. National Technology Transfer and Advancement Act (NTTAA)

Section 12(d) of the NTTAA directs the EPA to use voluntary consensus standards in its regulatory activities unless to do so would be inconsistent with applicable law or otherwise impractical. The EPA believes that this action is not subject to the requirements of section 12(d) of the NTTAA because application of those requirements would be inconsistent with the CAA.

J. Executive Order 12898: Federal Actions To Address Environmental Justice in Minority Populations and Low-Income Populations

Executive Order 12898 (Federal Actions To Address Environmental Justice in Minority Populations and Low-Income Populations, 59 FR 7629, February 16, 1994) directs Federal agencies to identify and address “disproportionately high and adverse human health or environmental effects” of their actions on minority populations and low-income populations to the greatest extent practicable and permitted by law. The EPA defines environmental justice (EJ) as “the fair treatment and meaningful involvement of all people regardless of race, color, national origin, or income with respect to the development, implementation, and enforcement of environmental laws, regulations, and policies.” The EPA further defines the term fair treatment to mean that “no group of people should bear a disproportionate burden of environmental harms and risks, including those resulting from the negative environmental consequences of industrial, governmental, and commercial operations or programs and policies.”

ADEQ did not evaluate environmental justice considerations as part of its SIP submittals; the CAA and applicable implementing regulations neither prohibit nor require such an evaluation. The EPA did not perform an EJ analysis and did not consider EJ in this action. Due to the nature of the action as described in our proposed rulemaking, this action is expected to have a neutral to positive impact on the air quality of the affected area. Consideration of EJ is not required as part of this action, and there is no information in the record inconsistent with the stated goal of E.O. 12898 of achieving environmental justice for people of color, low-income populations, and Indigenous peoples.

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

K. Congressional Review Act (CRA)

This action is subject to the CRA, and the EPA will submit a rule report to each House of the Congress and to the Comptroller General of the United States. This action is not a “major rule” as defined by 5 U.S.C. 804(2).

L. Petitions for Judicial Review

Under section 307(b)(1) of the Clean Air Act, petitions for judicial review of this action must be filed in the United States Court of Appeals for the appropriate circuit by November 4, 2024. Filing a petition for reconsideration by the Administrator of this final rule does not affect the finality of this rule for the purposes of judicial review nor does it extend the time within which a petition for judicial review may be filed and shall not postpone the effectiveness of such rule or action. This action may not be challenged later in proceedings to enforce its requirements (see section 307(b)(2)).

List of Subjects

40 CFR Part 52

Environmental protection, Air pollution control, Incorporation by reference, Intergovernmental relations, Ozone, Reporting and recordkeeping requirements, Volatile organic compounds.

40 CFR Part 81

Environmental Protection, Air pollution control.

Authority: 42 U.S.C. 7401 et seq.

Dated: August 5, 2024.
Martha Guzman Aceves,
Regional Administrator, Region IX.

For the reasons stated in the preamble, the EPA amends chapter I, title 40 of the Code of Federal Regulations as follows:

PART 52—APPROVAL AND PROMULGATION OF IMPLEMENTATION PLANS

1. The authority citation for part 52 continues to read as follows:

Authority: 42 U.S.C. 7401, et seq.

Subpart D—Arizona

2. Amend § 52.120 by:

a. Removing in paragraph (c) table 7 under the heading “Chapter VI: Recordkeeping and Reporting” the entry for “Rule 631;”

b. In paragraph (e) table 1 under the heading “Clean Air Act section 110(a)(2) State Implementation Plan Elements (Excluding Part D Elements and Plans),”:

i. Adding entries for “Arizona State Implementation Plan Revision under Clean Air Act Section 110(a)(1) and 110(a)(2) for the 2015 Ozone National Ambient Air Quality Standards (dated September 24, 2018)” and “State Implementation Plan Revision: Clean Air Act Section 110(a)(2) for the 2012 Fine Particulate & 2015 Ozone NAAQS (dated February 2022)” before the entry for “Ordinance No. 1993-128, Section 1, 17.040.190 “Composition” Section 6, 17.24.040 “Reporting for compliance evaluations”;”

ii. Adding an entry for “Ordinance No. 1993-128, Section 6, 17.24.010 “Confidentiality of trade secrets, sales data, and proprietary information”,” before the entry for “Ordinance 2005-43, Chapter 17.12, Permits and Permit Revisions, section 2, 17.12.040 “Reporting Requirements”;” and

c. Adding in paragraph (e), table 3 under the heading “Article 2 (State Air Pollution Control),” an entry for “49-432(C)” before the entry for “49-433.”

The additions read as follows:

§ 52.120 Identification of plan.

* * * * *

(e) * * *

Table 1—EPA-Approved Non-Regulatory and Quasi-Regulatory Measures
[Excluding certain resolutions and statutes, which are listed in tables 2 and 3, respectively] ¹
Name of SIP provision | Applicable geographic or nonattainment area or title/subject | State/submittal date | EPA approval date | Explanation
* * * * * * *
Arizona State Implementation Plan Revision under Clean Air Act Section 110(a)(1) and 110(a)(2) for the 2015 Ozone National Ambient Air Quality Standards (dated September 24, 2018) | State-wide | September 24, 2018 | September 4, 2024, [INSERT FEDERAL REGISTER CITATION] | Adopted by the Arizona Department of Environmental Quality on September 24, 2018. EPA fully approved all elements of the submittal except those addressing CAA sections 110(a)(2)(C), 110(a)(2)(D), and 110(a)(2)(J).
State Implementation Plan Revision: Clean Air Act Section 110(a)(2) for the 2012 Fine Particulate & 2015 Ozone NAAQS (dated February 2022) | State-wide | February 10, 2022 | September 4, 2024, [INSERT FEDERAL REGISTER CITATION] | Adopted by the Arizona Department of Environmental Quality on February 10, 2022. EPA approved all elements of the submittal except those addressing requirements for the 2012 PM2.5 NAAQS.
* * * * * * *
Ordinance No. 1993-128, Section 6, 17.24.010 “Confidentiality of trade secrets, sales data, and proprietary information” | Pima County | February 10, 2022 | September 4, 2024, [INSERT FEDERAL REGISTER CITATION] | Adopted by the Board of Supervisors of Pima County, Arizona on September 28, 1993.
* * * * * * *
¹ Table 1 is divided into three parts: Clean Air Act Section 110(a)(2) State Implementation Plan Elements (excluding Part D Elements and Plans), Part D Elements and Plans (other than for the Metropolitan Phoenix or Tucson Areas), and Part D Elements and Plans for the Metropolitan Phoenix and Tucson Areas.

* * * * *

Table 3—EPA-Approved Arizona Statutes—Non-Regulatory
State citation | Title/subject | State/submittal date | EPA approval date | Explanation
* * * * * * *
49-432(C) | Classification and reporting; confidentiality of records | February 10, 2022 | September 4, 2024, [INSERT FEDERAL REGISTER CITATION] | Arizona Revised Statutes. Adopted by the Arizona Department of Environmental Quality on February 10, 2022.
* * * * * * *

* * * * *

3. Amend § 52.121 by revising the entries in the table for “Pima Intrastate (Pima)” and “Central Arizona Intrastate (Gila, Pinal)” to read as follows:

§ 52.121 Classification of Regions.

The Arizona plan is evaluated on the basis of the following classifications:

AQCR (constituent counties) | Classifications: PM | Classifications: SOX | Classifications: NO2 | Classifications: CO | Classifications: O3
* * * * * * *
Pima Intrastate (Pima) | I | III | III | III | III
* * * * * * *
Central Arizona Intrastate (Gila, Pinal) | I | IA | III | III | I
* * * * * * *

4. Amend § 52.123 by reserving paragraph (s) and adding paragraph (t) to read as follows:

§ 52.123 Approval status.

* * * * *

(s) [Reserved].

(t) 2015 8-hour ozone NAAQS: The SIPs submitted on September 24, 2018, and February 10, 2022, are fully or partially disapproved for CAA elements 110(a)(2)(C), (D)(i)(II), (D)(ii), and (J) for all portions of the Arizona SIP.

PART 81—DESIGNATION OF AREAS FOR AIR QUALITY PLANNING PURPOSES

5. The authority citation for part 81 continues to read as follows:

Authority: 42 U.S.C. 7401 et seq.

Subpart C—Section 107 Attainment Status Designations

6. Amend § 81.303, the table entitled “Arizona—2015 8-Hour Ozone NAAQS” by revising the entry for “Phoenix-Mesa, AZ” to read as follows:

§ 81.303 Arizona.

* * * * *

Arizona—2015 8-Hour Ozone NAAQS
[Primary and secondary]
Designated area 1 | Designation: Date 2 | Designation: Type | Classification: Date 2 | Classification: Type
Phoenix-Mesa, AZ |  | Nonattainment | 11/7/22 | Moderate.
Gila County (part):
T2N, R12E (except that portion in Maricopa County); T3N, R12E (except that portion in Maricopa County); T4N, R12E (sections 25 through 29 (except those portions in Maricopa County) and 33 through 36 (except those portions in Maricopa County))
Maricopa County (part):
T1N, R1E (except that portion in Indian Country); T1N, R2E; T1N, R3E; T1N, R4E (except that portion in Indian Country); T1N, R5E (except that portion in Indian Country); T1N, R6E; T1N, R7E; T1N, R1W; T1N, R2W; T1N, R3W; T1N, R4W; T1N, R5W; T1N, R6W; T1N, R7W; T1N, R8W; T2N, R1E; T2N, R2E; T2N, R3E; T2N, R4E; T2N, R6E (except that portion in Indian Country); T2N, R7E (except that portion in Indian Country); T2N, R8E; T2N, R9E; T2N, R10E; T2N, R11E; T2N, R12E (except that portion in Gila County); T2N, R13E (except that portion in Gila County); T2N, R1W; T2N, R2W; T2N, R3W; T2N, R4W; T2N, R5W; T2N, R6W; T2N, R7W; T2N, R8W; T3N, R1E; T3N, R2E; T3N, R3E; T3N, R4E; T3N, R5E (except that portion in Indian Country); T3N, R6E (except that portion in Indian Country); T3N, R7E (except that portion in Indian Country); T3N, R8E; T3N, R9E; T3N, R10E (except that portion in Gila County); T3N, R11E (except that portion in Gila County); T3N, R12E (except that portion in Gila County); T3N, R1W; T3N, R2W T3N, R3W; T3N, R4W; T3N, R5W; T3N, R6W; T4N, R1E; T4N, R2E; T4N, R3E; T4N, R4E; T4N, R5E; T4N, R6E (except that portion in Indian Country); T4N, R7E (except that portion in Indian Country); T4N, R8E T4N, R9E; T4N, R10E (except that portion in Gila County); T4N, R11E (except that portion in Gila County); T4N, R12E (except that portion in Gila County); T4N, R1W; T4N, R2W; T4N, R3W; T4N, R4W; T4N, R5W; T4N, R6W; T5N, R1E; T5N, R2E; T5N, R3E; T5N, R4E; T5N, R5E; T5N, R6E; T5N, R7E; T5N, R8E; T5N, R9E (except that portion in Gila County); T5N, R10E (except that portion in Gila County); T5N, R1W; T5N, R2W; T5N, R3W; T5N, R4W; T5N, R5W; T6N, R1E (except that portion in Yavapai County); T6N, R2E; T6N, R3E; T6N, R4E; T6N, R5E; T6N, R6E; T6N, R7E; T6N, R8E; T6N, R9E (except that portion in Gila County); T6N, R10E (except that portion in Gila County); T6N, R1W (except that portion in Yavapai County); T6N, R2W; T6N, R3W; T6N, R4W; T6N, R5W; T7N, R1E (except that portion in Yavapai County); T7N, R2E (except that portion in Yavapai County); T7N, R3E; T7N, R4E; T7N, R5E; T7N, R6E; T7N, R7E; T7N, R8E; T7N, R9E (except that portion in Gila County); T7N, R1W (except that portion in Yavapai County); T7N, R2W (except that portion in Yavapai County); T8N, R2E (except that portion in Yavapai County); T8N, R3E (except that portion in Yavapai County); T8N, R4E (except that portion in Yavapai County); T8N, R5E (except that portion in Yavapai County); T8N, R6E (except that portion in Yavapai County); T8N, R7E (except that portion in Yavapai County); T8N, R8E (except that portion in Yavapai and Gila Counties); T8N, R9E (except that portion in Yavapai and Gila Counties); T1S, R1E (except that portion in Indian Country); T1S, R2E (except that portion in Pinal County and in Indian Country); T1S, R3E; T1S, R4E; T1S, R5E; T1S, R6E; T1S, R7E; T1S, R1W; T1S, R2W; T1S, R3W; T1S, R4W; T1S, R5W; T1S, R6W; T2S, R1E (except that portion in Indian Country); T2S, R5E; T2S, R6E; T2S, R7E; T2S, R1W; T2S, R2W; T2S, R3W; T2S, R4W; T2S, R5W; T3S, R1E; T3S, R1W; T3S, R2W; T3S, R3W; T3S, R4W; T3S, R5W; T4S, R1E; T4S, R1W; T4S, R2W; T4S, R3W; T4S, R4W; T4S, R5W; T5S, R4W (sections 1 through 22 and 27 through 34).
Pinal County (part):
T1N, R8E; T1N, R9E; T1N, R10E; T1S, R8E; T1S, R9E; T1S, R10E; T2S, R8E (sections 1 through 10, 15 through 22, and 27 through 34); T2S, R9E (sections 1 through 6); T2S, R10E (sections 1 through 6); T3S, R7E (sections 1 through 6, 11 through 14, 23 through 26, and 35 through 36); T3S, R8E (sections 3 through 10, 15 through 22, and 27 through 34).
Fort McDowell Yavapai Nation.
Gila River Indian Community of the Gila River Indian Reservation, Arizona.
Includes only non-contiguous areas of Indian country known as “parcels M & N”.³
Tohono O'odham Nation of Arizona.
Salt River Pima-Maricopa Indian Community of the Salt River Reservation.
* * * * * * *
¹ Includes any Indian country in each county or area, unless otherwise specified. EPA is not determining the boundaries of any area of Indian country in this table, including any area of Indian country located in the larger designation area. The inclusion of any Indian country in the designation area is not a determination that the State has regulatory authority under the Clean Air Act for such Indian country.
² This date is August 3, 2018, unless otherwise noted.
³ See section 3.0 of the EPA's technical support document for Arizona, titled “Arizona Final Area Designations for the 2015 Ozone National Ambient Air Quality Standards Technical Support Document (TSD),” for more information and a map showing the locations of “parcels M & N” (available in Docket ID: EPA-HQ-OAR-2017-0548).

[FR Doc. 2024-17711 Filed 9-3-24; 8:45 am]

BILLING CODE 6560-50-P